DEPARTMENT OF ENERGY

Federal Energy Regulatory Commission

[Docket No. CP11-44-000; Docket No. CP11-47-000]

Tennessee Gas Pipeline Company, Kinetica Partners, LLC; Notice of Application and Petition for Declaratory Order

December 14, 2010.

Take notice that on December 3, 2010, Tennessee Gas Pipeline Company (Tennessee), 1001 Louisiana Street, Houston, Texas 77002, filed in Docket No. CP11-44-000 an application, pursuant to section 7(b) of the Natural Gas Act (NGA), for permission and approval to abandon by sale certain natural gas facilities located offshore in the Gulf of Mexico and onshore in the State of Louisiana (Production Area Facilities). Also take notice that on December 10, 2010, Kinetica Partners, LLC (Kinetica), Lyric Center, 440 Louisiana St., Suite 425, Houston, Texas 77002, filed in Docket No. CP11-47-000, a petition for a declaratory order finding that, upon Kinetica's acquisition from Tennessee, the Production Area Facilities will be non-jurisdictional gathering facilities pursuant to section 1(b) of the NGA, all as more fully set forth in the applications which are on file with the Commission and open to public inspection.

Specifically, Tennessee proposes to sell to Kinetica certain pipeline systems consisting of approximately 800 miles of various diameter pipeline, three separation and dehydration facilities, and six offshore platforms. Kinetica asks that the Commission declare that all of the facilities will perform a gathering function. However, if the Commission determines that all but a small portion of the facilities are gathering, Kinetica requests that the Commission issue a limited jurisdiction certificate to cover such interstate transportation as Kinetica may perform on the facilities. Further, the facilities will be purchased at less than net book value. Tennessee filed, concurrently with its abandonment application in Docket No. CP11-44-000, an offer of settlement in Docket No. RP11-1597-000 addressing rate treatment and rate relief related to the proposed abandonment. Tennessee states that, because the effectiveness of the approval requested in each proceeding is precedent on approval in the other, it requests that the Commission consolidate its review of the application and offer of settlement for issuance of its findings in a single order. Kinetica requests that a single order be issued on its petition and Tennessee's application.

Any questions regarding Tennessee's application in Docket No. CP11-44-000 should be directed to Thomas G. Joyce, manager, Certificates, Tennessee Gas Pipeline Company, 101 Louisiana Street, Houston, Texas 77002, or by calling (713) 420-3299 or faxing (713) 420-1605 or e-mail tom.joyce@elpaso.com or to Ms. Shannon M. Miller, Principal, Prates and Regulatory Affairs, Tennessee Gas Pipeline Company, 101 Louisiana Street, Houston, Texas 77002, or by calling (713) 420-5535 or faxing (713) 420-1605 or e-mail Shannon.miller@elpaso.com.

Any questions regarding Kinetica's petition Docket No. CP11-47-000 should be directed to counsel for Kinetica, Jennifer N. Waters, Crowell & Moring LLP, 1001 Pennsylvania Avenue, NW., Washington, DC 20004; or phone at (202) 624-2715, or by fax at (202) 628-5116.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 7 copies of the protest or intervention to the Federal Energy regulatory Commission, 888 First Street, NE., Washington, DC 20426. This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: January 4, 2011.

Kimberly D. Bose,
Secretary.

[FR Doc. 2010-31933 Filed 12-20-10; 8:45 am]

BILLING CODE 6717-01-P